DEPARTMENT OF THE INTERIOR

Bureau of Land Management

[CO-140-1610-DS-009C]

Notice of Availability of the Draft Resource Management Plan (RMP) Amendment and Draft Environmental Impact Statement (EIS) for the Roan Plateau Planning Area, Including the Former Naval Oil Shale Reserves (NOSR) 1 & 3; Glenwood Springs and White River Field Offices in Garfield and Rio Blanco Counties, CO

AGENCY: Bureau of Land Management (BLM), Interior.

ACTION: Notice of availability.

SUMMARY: The Draft RMP Amendment/Draft EIS for the Roan Plateau planning area, which includes the former Naval Oil Shale Reserves 1 and 3, is available for 90 days for public review and comment. BLM has prepared the document, and is announcing this comment period, in accordance with the National Environmental Policy Act (NEPA) of 1969, the Federal Land Policy and Management Act of 1976 (FLPMA), and regulatory requirements

DATES: The BLM will accept written comments on the Draft RMP Amendment/Draft EIS for 90 days following the publication of its availability by the Environmental Protection Agency (EPA) in the Federal Register. BLM will announce future public meetings and any other public involvement activities at least 15 days in advance through public notices in local newspapers (Glenwood Springs and Rifle, Colorado), through local media news releases, on the project Web site at http://www.roanplateau.ene.com, and/or through mailings.

ADDRESSES: Copies of the Roan Plateau Draft RMP Amendment/Draft EIS and additional information can be obtained, and/or downloaded, by the public via the Internet at: http://www.roanplateau.ene.com. The public can also obtain a copy of the Draft by writing to: Roan RMPA Request, Bureau of Land Management, Glenwood Springs Field Office, P.O. Box 1009, Glenwood Springs, Colorado 81602.

Submit written comments to: Roan Plateau Comments—Attention Greg Goodenow, at the address shown above. Comments also may be submitted electronically at http://www.roanplateau.ene.com; click on the comment tab and follow the directions. Comments from organizations or businesses will be made available to the public in their entirety. Individuals, by contrast, may request confidentiality with respect to their name, address, and phone number. If individuals wish to have their name or street address withheld from public review, or from disclosure under the Freedom of Information Act, the first line of their comment must start with the words “CONFIDENTIALITY REQUESTED” in uppercase letters in order for BLM to comply with your request. Such requests will be honored to the extent allowed by law. Comment contents will not be kept confidential. Comments (including names and addresses of respondents except as previously noted) will be available for public review at the BLM Glenwood Springs Field Office, 50629 Highways 6 & 24, Glenwood Springs, Colorado, during normal working hours (7:45 a.m. to 4:30 p.m., except weekends and holidays).

The public may view the Draft RMP Amendment/Draft EIS and associated documents such as maps, planning criteria, and supporting background information at several locations:

• The project Web site at http://www.roanplateau.ene.com. Documents may be downloaded in PDF format from this site. The public can also request a copy of the document by visiting this Web site (the BLM can mail an individual or group a CD, for example).

• The BLM Glenwood Springs Field Office (50629 Highways 6 & 24, Glenwood Springs, Colorado) or the White River Field Office (73544 Highway 64, Meeker, Colorado, 81641) during normal working hours (7:45 a.m. to 4:30 p.m., except weekends and holidays).

• The Garfield County (Colorado) Public Libraries. Locations are provided on the project Web site.

FOR FURTHER INFORMATION CONTACT: For further information, to comment, and/or to have your name added to the mailing list, visit the Web site shown above. For other questions, you may also contact: Greg Goodenow—Planning and Environmental Coordinator, Steve Bennett—Associate Field Manager, or Jamie Connell—Field Manager at the Glenwood Springs Field Office, Bureau of Land Management, P.O. Box 1009 Glenwood Springs, Colorado 81602. The Glenwood Springs Field Office telephone number is (970) 947-2800. All three can be reached via e-mail at colorado_roanplateau@co.blm.gov.

SUPPLEMENTARY INFORMATION: The Roan Plateau planning area analyzed in the Draft RMP Amendment/Draft EIS contains about 73,602 acres of Federal land managed by the BLM (both surface and subsurface estate). The planning area totals about 127,000 acres. Although the planning area boundary includes private lands, the BLM's decisions will only apply to the approximately 73,602 acres of land (surface and subsurface estate) that BLM manages.

Most of the planning area is in western Garfield County, Colorado; a small portion is in southern Rio Blanco County, Colorado. The planning area lies north of Interstate 70 between the towns of Rifle and Parachute and consists of three visually, geologically, and ecologically distinct areas: (1) Xeric (dry) semi-desert habitats at lower elevations, (2) relatively mesic (moist) montane and subalpine habitats at higher elevations, and (3) a band of high and most unbroken cliffs separating these areas. Lands within the planning area drain westward to Parachute Creek, eastward to Government Creek, or southward to the Colorado River. Parachute Creek and Government Creek are also tributaries of the Colorado River.

The Roan Plateau RMP Amendment will amend two existing Resource Management Plans:

• The Glenwood Springs Resource Management Plan approved January 1984; revised 1988; amended November 1991, November 1996, August 1997, March 1999, November 1999, and September 2002.

• The White River Resource Area RMP, approved July 1997.

Once approved, the Record of Decision (ROD) for the Roan Plateau RMP Amendment will replace all existing management plans for the BLM lands within the planning area.

The Federal Land Management and Policy Act of 1976 (FLPMA) is the principal law that guides planning and management for BLM-administered lands. Public Law 105-85, the National Defense Authorization Act for Fiscal Year 1998, Section 3404 (the transfer act), dated, November 18, 1997, transferred the administrative and management responsibility for about 56,000 acres of land from Department of Energy to BLM. These lands were referred to as Naval Oil Shale Reserves 1 and 3. Public Law 105-85 directed BLM to enter into leases with one or more private entities for the purpose of exploration, development and production of petroleum. In addition, the act stipulates that the transferred lands be managed in accordance with the Federal Land Policy and Management Act (FLPMA) and other laws applicable to public lands.

The alternatives present differing management approaches for the various natural, biological, and cultural resources within the planning area. As required by the BLM's planning regulations (43 CFR 1610.4-7), the BLM has selected a “preferred alternative”, alternative 3, in the Draft RMP Amendment. Commenters should note that the preferred alternative and/or the components of the preferred alternative may be changed between the Draft RMP Amendment/Draft EIS and Proposed RMP Amendment/Final EIS to respond to public and cooperating agency comments, and any other pertinent information provided to BLM.

The alternative ultimately adopted by BLM may be comprised from components contained in any of the alternatives presented in the Draft RMP Amendment/Draft EIS, and/or components within the range of actions analyzed. Commenters are therefore encouraged to comment on components of any or all of the alternatives, rather than on any one alternative as a whole (e.g., the preferred alternative). Comments should focus on specific management actions being considered and the adequacy of analysis. The BLM will publish responses to the comments as part of the Proposed RMP Amendment/Final EIS.

The Draft RMP Amendment/Draft EIS evaluates the Continuation of Current Management (No Action) in Alternative I, and four other alternative management approaches in Alternatives II through V. Specific issues include management of: oil and gas resources, fish and wildlife habitat, rare plant habitat, ecological richness, visual resources, travel and transportation, livestock grazing, wilderness characteristics, forest resources, recreation, use authorizations such as rights-of-way, other land uses, and the economic effects of management of the various resources.

Three areas (totaling 21,382 acres) found to contain wilderness character by BLM, are being considered for management to maintain their wilderness characteristics within the range of alternatives. The Draft RMP/Draft EIS will include an analysis of alternative management prescriptions for these three areas. On April 11, 2003, a settlement agreement was reached between the Department of the Interior and the State of Utah, Utah School and Institutional Trust Lands Administration, and Utah Association of Counties. Consistent with that settlement and subsequent policies issued by BLM, the Draft RMP Amendment/Draft EIS will not consider the designation of new Wilderness Study Areas (WSAs), or the classification or management of BLM lands as if they are or may become WSAs. However, alternatives for the protection and management of wilderness characteristics will be considered.

The BLM is considering three types of administrative designations for federal lands in the planning area:

• One Special Recreation Management Area (SRMA).

• Various configurations of four areas as Areas of Critical Environmental Concern (ACECs) to protect important ecological or other values.

• Two configurations of a watershed management area.

Several stream segments have been found to be eligible for further study to determine their suitability for designation as Wild and Scenic Rivers. Under all alternatives these stream segments would be managed to protect pertinent values until such time as a suitability study and further planning is completed.

Oil and gas leasing is being considered throughout the approximately 73,600 acres of public lands within the planning area, along with potential lease terms and conditions.

Jamie E. Connell,
Manager, Glenwood Springs Field Office.

[FR Doc. 04-26316 Filed 11-24-04; 8:45 am]

BILLING CODE 4310-JB-P